DEPARTMENT OF THE INTERIOR

National Park Service

[N6784; NPS-WASO-NAGPRA-NPS0041553; PPWOCRADN0-PCU00RP14.R50000]

Notice of Intended Disposition: U.S. Department of Agriculture, Forest Service, San Juan; National Forest, Durango, CO

AGENCY: National Park Service, Interior.

ACTION: Notice.

SUMMARY: In accordance with the Native American Graves Protection and Repatriation Act (NAGPRA), the U.S. Department of Agriculture, Forest Service, San Juan National Forest intends to carry out the disposition of human remains removed from Federal or Tribal lands to the lineal descendants, Indian Tribe, or Native Hawaiian organization with priority for disposition in this notice.

DATES: Disposition of the human remains in this notice may occur on or after January 20, 2026. If no claim for disposition is received by December 21, 2026, the human remains in this notice will become unclaimed human remains.

ADDRESSES: Send written claims for disposition of the human remains in this notice to Michelle Stevens, U.S. Forest Service, San Juan National Forest, 15 Burnett Court, Durango, CO 81301, email michelle.stevens@usda.gov.

SUPPLEMENTARY INFORMATION: This notice is published as part of the National Park Service's administrative responsibilities under NAGPRA. The determinations in this notice are the sole responsibility of the Forest Service, and additional information on the human remains in this notice, including the results of consultation, can be found in the related records. The National Park Service is not responsible for the identifications in this notice.

Abstract of Information Available

Based on the information available, human remains representing, at least, one individual has been reasonably identified. No associated funerary objects are present.

On September 6, 2025, human remains representing one individual were recovered from Forest Service site 02130203976/5MT5308. This site is within National Register of Historic Places Archaeological District 5MT6599. The human remains were discovered and brought to local authorities by a visitor when found eroding from the shorelines of McPhee Reservoir on the Dolores Ranger District, San Juan National Forest, Montezuma County, CO. Local authorities notified the Forest Service. On September 26, 2025, Forest Service archaeologists visited the site; no evidence of the original burial, additional bone fragments, or vandalism were found.

Site 02130203976/5MT5308 consists of two artifact concentrations with flaked stone and a pottery sherd. No temporally diagnostic artifacts are present. Based on archaeological context and geographic location, the site was occupied by Native Americans between the Basketmaker III and post-Puebloan periods, A.D. 500-1840.

Determinations

The Forest Service has determined that:

• The human remains described in this notice represent the physical remains of at least one individual of Native American ancestry.

• Based on archaeological context and geographic location the Hopi Tribe of Arizona; Navajo Nation, Arizona, New Mexico, & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Santa Ana, New Mexico; Pueblo of Santa Clara, New Mexico; Pueblo of Taos, New Mexico; Pueblo of Tesuque, New Mexico; Pueblo of Zia, New Mexico; Santo Domingo Pueblo; Southern Ute Indian Tribe of the Southern Ute Reservation, Colorado; Ute Indian Tribe of the Uintah & Ouray Reservation, Utah; Ute Mountain Ute Tribe; and the Zuni Tribe of the Zuni Reservation, New Mexico have priority for disposition of the human remains described in this notice.

Claims for Disposition

Written claims for disposition of the human remains in this notice must be sent to the appropriate official identified in this notice under ADDRESSES. If no claim for disposition is received by December 21, 2026, the human remains in this notice will become unclaimed human remains. Claims for disposition may be submitted by:

1. Any lineal descendant, Indian Tribe, or Native Hawaiian organization identified in this notice.

2. Any lineal descendant, Indian Tribe, or Native Hawaiian organization not identified in this notice who shows that they have priority for disposition.

Disposition of the human remains in this notice may occur on or after January 20, 2026. If competing claims for disposition are received, the Forest Service must determine the most appropriate claimant prior to disposition. Claims for joint disposition of the human remains are considered a single claim and not competing claims. The Forest Service is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: December 8, 2025.
Melanie O'Brien,
Manager, National NAGPRA Program.

[FR Doc. 2025-23356 Filed 12-18-25; 8:45 am]

BILLING CODE 4312-52-P